ENVIRONMENTAL PROTECTION AGENCY

[EPA-HQ-OPP-2009-0208; FRL-8429-6]

Maneb; Product Cancellation Order

AGENCY: Environmental Protection Agency (EPA).

ACTION: Notice.

SUMMARY: This notice announces EPA's order for the cancellations, voluntarily requested by the registrant and accepted by the Agency, of products containing the pesticide maneb, pursuant to section 6(f)(1) of the Federal Insecticide, Fungicide, and Rodenticide Act (FIFRA), as amended. This cancellation order follows a September 12, 2008 Federal Register Notice of Receipt of Requests from the United Phosphorous, Inc. registrant to voluntarily cancel all their maneb product registrations. These are not the last maneb products registered for use in the United States. In the September 12, 2008 notice, EPA indicated that it would issue an order implementing the cancellations, unless the Agency received substantive comments within the 30-day comment period that would merit its further review of these requests, or unless the registrants withdrew their requests within this period. The Agency erroneously issued a Cancellation Order on October 14, 2008. For the reasons set forth below, on October 31, 2008, EPA revoked the October 14, 2008 cancellation. The Agency received and subsequently reviewed comments on the notice. The comments are summarized below in Unit III. This order took into consideration the comments received. Further, the registrants did not withdraw their requests. Accordingly, EPA hereby issues in this notice a cancellation order granting the requested cancellations. Any distribution, sale, or use of the maneb products subject to this cancellation order is permitted only in accordance with the terms of this order, including any existing stocks provisions.

DATES: The cancellations are effective August 26, 2009.

FOR FURTHER INFORMATION CONTACT: Cynthia Giles-Parker, Registration Division, Office of Pesticide Programs, Environmental Protection Agency, 1200 Pennsylvania Ave., NW., Washington, DC 20460-0001; telephone number: (703) 305-7740; fax number: (703) 308-5320; e-mail address: giles-parker.cynthia@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2009-0208. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. What Action is the Agency Taking?

This notice announces the cancellation, as requested by registrants, of maneb products registered under section 3 of FIFRA. These registrations are listed in ascending sequence by registration number in Table 1 of this unit.

Table 1—Maneb Product Cancellations
EPA Registration Number | Product Name
70506-177 | Maneb 80 WP Fungicide
70506-181 | Maneb Technical
70506-184 | Maneb 4FL Flowable Fungicide
70506-186 | Maneb 75DF Dry Flowable Fungicide

Table 2 of this unit includes the name and address of record for the registrant of the products listed in Table 1 of this unit.

Table 2—Registrant of Canceled Maneb Products
EPA Company Number | Company Name and Address
70506 | United Phosphorous Inc. 630 Freedom Business Center, Suite 402 King of Prussia, Pennsylvania 19406

III. Summary of Public Comments Received and Agency Response to Comments

The Agency received timely comments in regards to the Federal Register notice of September 12, 2008 (73 FR 53007)(FRL-8380-7). E.I. du Pont de Nemours and Company (DuPont) provided a comment expressing their concerns about the loss of the chemical if the effective date of the cancellation is prior to May 29, 2009, due to the supply demand to manufacture their products. On December 12, 2008, DuPont submitted to the Docket a request to withdraw their earlier comment to the Docket. The Florida Fruit and Vegetable Association (FFVA) expressed concern about the cancellation of these products because of loss of use on their winter crops in Florida which could lead to economic loss and loss of their resistance management and IPM strategies. The alternative chemical, mancozeb is not currently approved for many of the uses on the maneb labels. Until a decision is made on granting tolerances for many of these uses, this commenter believes that there is still a high need to have maneb products in place. The final commenter expressed their approval of the Agency's decision to remove this chemical from the market. On October 14, 2008, the Agency issued a cancellation order effective October 14, 2008, and 12 months to use existing stocks. The order was issued in error and rescinded on October 31, 2008, due to: (1) Miscommunication between EPA staff and United Phosphorous Inc. regarding what the effective date of the cancellation time period for sale and distribution of existing stocks should have been and (2) the need to review the timely submitted comments.

IV. Cancellation Order

Pursuant to FIFRA section 6(f), EPA hereby approves the requested cancellations of maneb registrations identified in Table 1 of Unit II. Accordingly, the Agency orders that the maneb product registrations identified in Table 1 of Unit II. are hereby canceled. Any distribution, sale, or use of existing stocks of the products identified in Tables 1 of Unit II. in a manner inconsistent with any of the Provisions for Disposition of Existing Stocks set forth in Unit VI. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the cancellation action. The cancellation order issued in this notice includes the following existing stocks provisions.

1. The registrant may continue to sell or distribute existing stocks of maneb products identified in Table 1 of Unit II. with previously approved labeling until December 31, 2009.

2. Persons other than the registrant may continue to sell or distribute existing stocks of maneb products identified in Table 1 of Unit II. with previously approved labeling until such stocks are exhausted.

3. Persons other than the registrant may only use existing stocks of maneb products identified in Table 1 of Unit II. for the purposes of formulating end use products until March 2010. Any use of existing stocks must be in a manner consistent with the previously approved labeling for that product.

List of Subjects

Environmental protection, Pesticides and pests.

Dated: August 11, 2009.
G. Jeffrey Herndon,
Acting Director, Registration Division, Office of Pesticide Programs.

[FR Doc. E9-20399 Filed 8-25-09; 8:45 a.m.]

BILLING CODE 6560-50-S